INTERNATIONAL TRADE COMMISSION

[Investigation No. 731-TA-1104 (Final)]

Certain Polyester Staple Fiber From China

Determination

On the basis of the record ¹ developed in the subject investigation, the United States International Trade Commission (Commission) determines, pursuant to section 735(b) of the Tariff Act of 1930 (19 U.S.C. § 1673d(b)) (the Act), that an industry in the United States is materially injured by reason of imports from China of certain polyester staple fiber, provided for in subheading 5503.20.00 of the Harmonized Tariff Schedule of the United States, that have been found by the Department of Commerce (Commerce) to be sold in the United States at less than fair value (LTFV). The Commission finds that critical circumstances do not exist with respect to subject imports from China.

¹ The record is defined in sec. 207.2(f) of the Commission's Rules of Practice and Procedure (19 CFR § 207.2(f)).

Background

The Commission instituted this investigation effective June 23, 2006, following receipt of a petition filed with the Commission and Commerce by DAK Americas, LLC, Charlotte, NC; Nan Ya Plastics Corporation, America, Lake City, SC; and Wellman, Inc., Shrewsbury, NJ. The final phase of the investigation was scheduled by the Commission following notification of a preliminary determination by Commerce that imports of certain polyester staple fiber from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on January 11, 2007 (72 FR 1341). The hearing was held in Washington, DC, on March 13, 2007, and all persons who requested the opportunity were permitted to appear in person or by counsel.

The Commission transmitted its determination in this investigation to the Secretary of Commerce on May 24, 2007. The views of the Commission are contained in USITC Publication 3922 (June 2007), entitled Certain Polyester Staple Fiber from China: Investigation No. 731-TA-1104 (Final).

By order of the Commission.
Issued: May 24, 2007.
Marilyn R. Abbott,
Secretary to the Commission.

[FR Doc. E7-10409 Filed 5-30-07; 8:45 am]

BILLING CODE 7020-02-P